SMALL BUSINESS ADMINISTRATION

RLJ Credit Opportunity Fund I, L.P. License No. 03/03-0256; Notice Seeking Exemption Under Section 312 of the Small Business Investment Act, Conflicts of Interest

Notice is hereby given that RLJ Credit Opportunity Fund I, L.P., 3 Bethesda Metro Center, Suite 1000, Bethesda, MD 20814, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). RLJ Credit Opportunity Fund I, L.P. has provided debt financing to Naylor, LLC, 5950 NW 1st Place, Gainesville, FL 32607. The proceeds were used to finance the acquisition of Boxwood Technology, Inc.

The financing is brought within the purview of § 107.730(a)(1) of the Regulations because RLJ Equity Partners Fund I, L.P., an Associate of RLJ Credit Opportunity Fund I, L.P., owns more than ten percent of Naylor, LLC, and therefore this transaction is considered a financing to an Associate requiring SBA prior written exemption.

Notice is hereby given that any interested person may submit written comments on the transaction, within fifteen days of the date of this publication, to the Associate Administrator for the Office of Investment and Innovation, U.S. Small Business Administration, 409 Third Street SW., Washington, DC 20416.

Dated: December 10, 2014.
Javier E. Saade,
Associate Administrator for Office of Investment and Innovation.

[FR Doc. 2014-29518 Filed 12-16-14; 8:45 am]

BILLING CODE P